DEPARTMENT OF JUSTICE

[OMB Number 1117-0012]

Agency Information Collection Activities; Proposed eCollection, eComments Requested; Extension Without Change of a Previously Approved Collection Application for Registration, Application for Registration Renewal, Affidavit for Chain Renewal (DEA Forms 225, 225a and 225b)

AGENCY: Drug Enforcement Administration, Department of Justice.

ACTION: 30-day notice.

SUMMARY: The Department of Justice (DOJ), Drug Enforcement Administration (DEA), will be submitting the following information collection request to the Office of Management and Budget (OMB) for review and approval in accordance with the Paperwork Reduction Act of 1995. This proposed information collection was previously published in the Federal Register at 80 FR, page 5137, on January 30, 2015, allowing for a 60 day comment period.

DATES: Comments are encouraged and will be accepted for an additional 30 days until May 4, 2015.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information proposed to be collected can be enhanced; and

—Minimize the burden of the collection of information on those who are to respond, including through the use of appropriate automated, electronic, mechanical, or other forms of information technology, e.g., permitting electronic submission of responses.

Overview of This Information Collection

1. Type of Information Collection: Extension of a currently approved collection.

2. Title of the Form/Collection: Application for Registration, Application for Registration Renewal, Affidavit for Chain Renewal.

3. The agency form number, if any, and the applicable component of the Department sponsoring the collection: The form numbers are DEA Forms 225, 225a, and 225b. The applicable component within the Department of Justice is the Drug Enforcement Administration, Office of Diversion Control.

4. Affected public who will be asked or required to respond, as well as a brief abstract:

Affected public (Primary): Business or other for-profit.

Affected public (Other): Not-for-profit institutions, Federal, State, local, and tribal governments.

Abstract: The Controlled Substances Act requires all businesses and individuals who manufacture, distribute, import, export, and conduct research and laboratory analysis with controlled substances to register with the DEA. 21 U.S.C. 822, 21 CFR 1301.11 and 1301.13. Registration is a necessary control measure that prevents diversion by ensuring the closed system of distribution of controlled substances can be monitored by the DEA and that the businesses and individuals handling controlled substances are qualified to do so and are accountable.

5. An estimate of the total number of respondents and the amount of time estimated for an average respondent to respond: DEA Form 225 is only for registration of controlled substance manufacturers, distributors, reverse distributors, importers, exporters, researchers, canine handlers, and analytical laboratories, as well as list 1 chemical manufacturers and importers. DEA Form 225 is submitted on an as-needed basis by persons seeking to become registered. DEA Form 225a is submitted annually thereafter to renew existing registrations. DEA Form 225b is submitted annually for renewals of chain registrants. Chain registrants are those corporations and laboratories that maintain separate registrations at multiple locations (e.g., distributors) and may renew all their registrations using a single DEA Form 225b.

| Number of annual respondents | Average time per response ** | Total annual hours
DEA-225 (paper) | 334 | 0.33 hours (20 minutes) | 111
DEA-225 (online) | 2,157 | 0.17 hours (10 minutes) | 360
DEA-225a (paper) | 737 | 0.25 hours (15 minutes) | 184
DEA-225a (online) | 11,554 | 0.12 hours (7 minutes) | 1,348
DEA-225b (chain renewal) * (paper) | 5 | 1 hour | 5
Total | 14,787 |  | 2,008
* In total, 5 chains represent 138 specific registered locations.
** Figures are rounded.

6. An estimate of the total public burden (in hours) associated with the collection: The DEA estimates that there are 2,008 annual burden hours associated with this proposed collection.

If additional information is required please contact: Jerri Murray, Department Clearance Officer, United States Department of Justice, Justice Management Division, Policy and Planning Staff, Two Constitution Square, 145 N Street NE., Suite 3E.405B, Washington, DC 20530.

Dated: March 31, 2015.
Jerri Murray,
Department Clearance Officer for PRA, U.S. Department of Justice.

[FR Doc. 2015-07664 Filed 4-2-15; 8:45 am]

BILLING CODE 4410-09-P